DEPARTMENT OF COMMERCE

National Oceanic and Atmospheric Administration

RIN 0648-XE758

Pacific Fishery Management Council; Public Meeting

AGENCY: National Marine Fisheries Service (NMFS), National Oceanic and Atmospheric Administration (NOAA), Commerce.

ACTION: Notice of a public meeting.

SUMMARY: The Pacific Fishery Management Council's (Pacific Council) Ad hoc Sacramento River Winter Chinook Workgroup (SRWCW) will hold a meeting, which is open to the public, to discuss progress on development of potential harvest control rule options.

DATES: The meeting will begin at 1 p.m. on Tuesday, August 16, 2016, and end at 5 p.m. on Wednesday, August 17, 2016, or until business for the day is completed.

ADDRESSES: The meeting will be held at the National Marine Fisheries Service, Southwest Fisheries Science Center, Large Conference Room, 110 Shaffer Road, Santa Cruz, CA 95060.

Council address: Pacific Council, 7700 NE Ambassador Place, Suite 101, Portland, Oregon 97220-1384.

FOR FURTHER INFORMATION CONTACT: Mr. Mike Burner, Pacific Council, 503-820-2414.

SUPPLEMENTARY INFORMATION:

Agenda

The SRWCW will discuss progress on the development of new predictors of Sacramento River winter Chinook abundance, the development of alternative harvest control rules, and methods for evaluating the performance of alternative control rules. The SRWCW will also prepare a report for the Council's September 2016 meeting and discuss future meeting plans.

Although non-emergency issues not contained in the meeting agenda may be discussed, those issues may not be the subject of formal action during these meetings. Action will be restricted to those issues specifically listed in this document and any issues arising after publication of this document that require emergency action under section 305(c) of the Magnuson-Stevens Fishery Conservation and Management Act, provided the public has been notified of the intent to take final action to address the emergency.

Special Accommodations

The meetings are physically accessible to people with disabilities. Requests for sign language interpretation or other auxiliary aids should be directed to Mr. Kris Kleinschmidt, at 503-820-2280, extension 425, at least five days prior to the meeting date.

Authority: 16 U.S.C. 1801 et seq.

Dated: July 20, 2016.
Tracey L. Thompson,
Acting Director, Office of Sustainable Fisheries, National Marine Fisheries Service.

[FR Doc. 2016-17536 Filed 7-25-16; 8:45 am]

BILLING CODE 3510-22-P